DEPARTMENT OF ENERGY

Federal Energy Regulatory Commission

[Project Nos. 2727-085; 2666-032; 2534-091; 2710-053, and 2712-072]

PPL Maine, LLC; Black Bear Hydro Partners, LLC; Notice of Application for Transfer of License, and Soliciting Comments, Motions To Intervene, and Protests

August 5, 2009.

On July 24, 2009, PPL Maine, LLC (Transferor) and Black Bear Hydro Partners, LLC (Transferee) filed a joint application for transfer of licenses of the Ellsworth Project No. 2727, Medway Project No. 2666, Milford Project No. 2534, Orono Project No. 2710, and the Stillwater Project No. 2712. The Ellsworth Project is located on the Union River near the city of Ellsworth in Hancock County, Maine. The Medway Project is located on the West Branch Penobscot River near the city of Medway in Penobscot County, Maine. The Milford Project is located on the Penobscot River near the city of Old Town in Penobscot County, Maine. The Orono and Stillwater Projects are located on the Stillwater Branch of the Penobscot River near the city of Orono in Penobscot County, Maine.

Applicants seek Commission approval to transfer the licenses for the Ellsworth, Medway, Milford, Orono, and Stillwater Projects from PPL Maine, LLC, to Black Bear Hydro Partners, LLC.

Applicant Contact: For Transferor: Jesse A. Dillon, PPL Maine, LLC, c/o PPL Services Corporation, Office of General Counsel, Two North Ninth Street, Allentown, PA 18101, (610) 774-5013.

For Transferee: Christine Miller, Esq. Black Bear Hydro Partners, LLC, c/o ArcLight Capital Partners, LLC, 200 Clarendon Street, Boston, MA 02117, (617) 531-6338.

FERC Contact: Steven Sachs, (202) 502-8666 or Steven.Sachs@ferc.gov.

Deadline for filing comments, protests, and motions to intervene: 30 days from the issuance of this notice. Comments and motions to intervene may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-2727-085 etc.) in the docket number field to access the document. For assistance, call toll-free 1-866-208-3372.

Nathaniel J. Davis, Sr.,
Deputy Secretary.

[FR Doc. E9-19271 Filed 8-11-09; 8:45 am]

BILLING CODE 6717-01-P